DEPARTMENT OF LABOR

Employment and Training Administration

[TA-W-38,679 and NAFTA-04608]

Kazoo, Inc. San Antonio, TX; Notice of Negative Determination Regarding Application for Reconsideration

By application of April 12, 2001, the petitioner requested administrative reconsideration of the Department's negative determination regarding eligibility for workers and former workers of the subject firm to apply for Trade Adjustment Assistance (TAA) under petition TA-W-38,679 and North American Free Trade Agreement-Transitional Adjustment Assistance (NAFTA-TAA) under petition NAFTA-4608. The TAA denial notice applicable to workers of Kazoo, Inc., San Antonio, Texas, was signed on March 12, 2001 and will soon be published in the Federal Register. The NAFTA-TAA denial notice applicable to workers of Kazoo, Inc., San Antonio, Texas, was signed on March 12, 2001 and published in the Federal Register on April 5, 2001 (66 FR 18118).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at Kazoo, Inc., San Antonio, Texas engaged in cutting fabric, was denied because the “contribution importantly” group eligibility requirement of section 222(3) of the Trade Act of 1974, as amended, was not met. The “contributed importantly” test is generally demonstrated through a survey of the workers firm's customers. The subject firm did not increase their imports of cut fabric. Sales at the subject firm increased during 2000. The subject firm transferred their cutting operations to another domestic facility.

The NAFTA-TAA petition for the same workers group was denied because criteria (3) and (4) of the group eligibility requirements in paragraph (a)(1) of Section 250 of the Trade Act, as amended, were not met. The subject firm did not import cut fabric like and directly competitive with what the subject plant produced from Mexico or Canada, nor was the cutting operation shifted from the workers' firm to Mexico or Canada.

The petitioner alleges that the company shifted the cutting operation at Mexico. The petitioner attached selected letters of recommendation which depicts a shift in production in Mexico. The company was contacted and confirmed that the cutting operation was not shifted to Mexico, nor was the cutting operation contracted out to any Mexican contractor.

Conclusion

After review of the application and investigative findings, I conclude that there has been no error or misinterpretation of the law of the facts which would justify reconsideration of the Department of Labor's prior decisions. Accordingly, the application is denied.

Signed at Washington, DC this 29th day of October, 2001.
Edward A. Tomchick,
Director, Division of Trade Adjustment Assistance.

[FR Doc. 01-28984 Filed 11-19-01; 8:45 am]

BILLING CODE 4510-30-M